DEPARTMENT OF COMMERCE

National Oceanic and Atmospheric Administration

Agency Information Collection Activities; Submission to the Office of Management and Budget (OMB) for Review and Approval; Comment Request; Pacific Islands Protected Species Workshop Participant Registration Form

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before May 30, 2025.

ADDRESSES: Interested persons are invited to submit written comments to Adrienne Thomas, NOAA PRA Officer, at NOAA.PRA@noaa.gov. Please reference OMB Control Number 0648-xxxx in the subject line of your comments. Do not submit Confidential Business Information or otherwise sensitive or protected information.

FOR FURTHER INFORMATION CONTACT: Requests for additional information or specific questions related to collection activities should be directed to Jason Mehlinger, Fishery Management Specialist, NOAA Fisheries Service, Pacific Islands Region, 1876 Wasp Blvd., Honolulu, HI 96818, jaosn.mehlinger@noaa.gov or (808) 725-5178.

SUPPLEMENTARY INFORMATION:

I. Abstract

This is a request for a new information collection as part of the Hawaii and American Samoa Longline fisheries required protected species workshop certification.

The National Oceanic and Atmospheric Administration's (NOAA's) National Marine Fisheries Service (NMFS) offers protected species workshops for owners and operators of Hawaii and American Samoa permitted longline vessels. These workshops cover the safe handling, release, and identification of protected species in the Pacific Islands region.

Vessel operators and owners of a vessel registered for use under any longline permit issued under 50 CFR 665.801 must attend and be certified for completion of a workshop conducted by NMFS on interaction mitigation techniques for sea turtles, seabirds and other protected species, per 50 CFR 665.814. The certification is required to maintain or renew vessel registration and must be held on board. The information collected as part of the program is needed to determine the compliance of both vessel owners and operators annually during fishing operations and permit renewals.

The collected information is submitted in person or using a web-based form to the NMFS Pacific Islands Fisheries Science Center (PIFSC). The Hawaii and American Samoa pelagic longline fishers will submit information upon registration for a workshop. Virtual or self-guided training participants will use an electronic form submitted online. The electronic form collects the same information as in-person submissions.

II. Method of Collection

Respondents will report their requested identifying information using paper or electronic forms. Methods of submittal include submission in-person, digitally using a web-based form, phone, or email.

III. Data

OMB Control Number: 0648-XXXX.

Form Number(s): None.

Type of Review: Regular review [New information collection].

Affected Public: Individuals or households, and small businesses.

Estimated Number of Respondents: 375.

Estimated Time per Response: From 2 to 5 minutes per individual registration; average 4 minutes per response.

Estimated Total Annual Burden Hours: 25.

Estimated Total Annual Cost to Public: $409.

Respondent's Obligation: Mandatory.

Legal Authority: 50 CFR 665.814.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Departmental PRA Compliance Officer, Office of the Under Secretary for Economic Affairs, Commerce Department.

[FR Doc. 2025-05484 Filed 3-28-25; 8:45 am]

BILLING CODE 3510-22-P